DEPARTMENT OF THE TREASURY

Customs Service

19 CFR Part 177

RIN 1515-AC56

Administrative Rulings; Correction

AGENCY: U.S. Customs Service, Department of the Treasury.

ACTION: Notice of proposed rulemaking; correction.

SUMMARY: This document corrects three errors in the document published in the Federal Register on July 17, 2001, which set forth proposed amendments to those provisions of the Customs Regulations that concern the issuance of administrative rulings and related written determinations and decisions on prospective and current transactions arising under the Customs and related laws.

FOR FURTHER INFORMATION CONTACT: John Elkins, Textiles Branch, Office of Regulations and Rulings (202-927-2380).

SUPPLEMENTARY INFORMATION:

Background

On July 17, 2001, Customs published a notice in the Federal Register (66 FR 37370) setting forth proposed amendments to part 177 of the Customs Regulations (19 CFR part 177). Part 177 concerns the issuance of administrative rulings and related written determinations and decisions on prospective and current transactions arising under the Customs and related laws.

This document corrects three errors in that published document. One error appeared in the Background portion of the preamble of the document and involves replacement of the words “as described above” by the citation “(19 U.S.C. 1625)” in order to remove a contextual ambiguity in the discussion in question. The other two errors involve the following provisions in the proposed regulatory texts:

1. In proposed § 177.11, in the third sentence of paragraph (b)(3)(vi)(B), the words “would includes” should be corrected to read “would include” for grammatical purposes; and

2. In proposed § 177.41, paragraph (c)(2)(i)(A) refers to a request filed under “paragraph (d) of this section” but no paragraph (d) is included in § 177.41—this reference should be corrected to read “§ 177.44.”

Corrections of Publication

Accordingly, the document published in the Federal Register on July 17, 2001 (66 FR 37370), is corrected as set forth below.

Correction to the Preamble

1. On page 37370, in the second column, fourth paragraph, the third line is corrected by removing the words “as described above” and adding, in their place, the reference “(19 U.S.C. 1625)”.

Corrections to the Proposed Regulations

2. On page 37383, in the third column, in § 177.11(b)(3)(vi)(B), in the last line, the words “would includes” are corrected to read “would include”.

3. On page 37394, in the second column, in § 177.41, the second sentence of paragraph (c)(2)(i)(A) is corrected by removing the words “paragraph (d) of this section” and adding, in their place, the reference “§ 177.44”.

Dated: July 24, 2001.
Harold M. Singer,
Chief, Regulations Branch.

[FR Doc. 01-18858 Filed 7-27-01; 8:45 am]

BILLING CODE 4820-02-P